DEPARTMENT OF THE INTERIOR

Fish and Wildlife Service

Expansion of Chickasaw and Lower Hatchie National Wildlife Refuges

AGENCY: Fish and Wildlife Service, Interior.

ACTION: Notice.

SUMMARY: We are expanding the acquisition boundary of the Chickasaw and Lower Hatchie National Wildlife Refuges by approximately 43,532 acres, primarily located in Lauderdale and Tipton Counties, Tennessee.

DATES: This would be effective on September 15, 2000.

FOR FURTHER INFORMATION CONTACT: Charles R. Danner with the Fish and Wildlife Service in Atlanta, 1-800-419-9582.

SUPPLEMENTARY INFORMATION: The Fish and Wildlife Act of 1956 (16 U.S.C. 742a-754j-2) allows the Secretary of Interior to acquire refuge lands for all wildlife. The Migratory Bird Conservation Act (16 U.S.C. 715d) established authority to acquire migratory bird habitat. National Wildlife Refuge System Administration Act of 1966 (16 U.S.C. 668 dd-ee) consolidated all of the different refuge areas into a single refuge “System” with all units of the System now administered by the Fish and Wildlife Service and restrictions placed on the transfer, exchange or other disposal of lands within the System.

We are expanding the Chickasaw and Lower Hatchie National Wildlife Refuge acquisition boundaries by 43,532 acres (17,616.85 ha). This area is located in western Tennessee and is comprised primarily of bottomland hardwoods. These refuges lie within 10 miles (16 km) of each other in Lauderdale and Tipton Counties, Tennessee. The acquisition boundaries of both refuges contain approximately 223 private landowners. The tracts within this expanded boundary range from less than one acre (.4047 ha) to approximately 6,000 acres (2,428.12 ha). The lands within the expanded boundary will be acquired from willing sellers and may include full fee or less than fee title. Less than fee title can include easements, leases, and cooperative agreements that maintain some ownership rights with a private landowner. The lands consist of forested wetlands interspersed with agricultural lands and open water. These lands are home to many species of fish and wildlife, including migratory birds and waterfowl.

We notified the public of the proposed refuge expansion and the availability of the Draft Environmental Assessment and Land Protection Plan for public review through a mass mailing, to approximately 200 affected landowners, on or about November 15, 1999. Copies of the document were provided to representatives of Federal, State and county governments, other Federal and State agencies, interested groups, affected landowners, and the general public. Written comments were accepted through December 15, 1999.

Only four written comments on the proposal were received. Comments supporting the project were received from the State of Tennessee's Wildlife Resource Agency and two individuals. Only one written comment expressed opposition to the project. Several landowners expressed their concerns by telephone and were generally supportive of the project, but had some questions and concerns regarding the land acquisition process. These concerns were answered either by telephone or in written responses explaining our acquisition program. Concerns were expressed by constituents of Tennessee Representative Ed Bryant and Missouri Representative Jo Ann Emerson relating to funding of the project and our land acquisition program. Written responses addressing these concerns were made to the respective congressional delegations, explaining the sources of funding and our land acquisition program. The State of Tennessee concurs with the proposal.

In compliance with the National Environmental Policy Act of 1969, we prepared an environmental assessment that evaluates two alternatives and their potential impacts on the project areas. Based on the documentation contained in the environmental assessment, we signed a Finding of No Significant Impact on July 6, 2000, for the expansion of Chickasaw and Lower Hatchie National Wildlife Refuges. We have completed an interim compatibility determination, and a conceptual management plan. Comprehensive planning is on the eve of completion to satisfy the requirements under the National Wildlife Refuge System Improvement Act of 1997.

Chickasaw and Lower Hatchie National Wildlife Refuges are administered as part of a much larger refuge complex with the main office located in Dyersburg, Tennessee. There is adequate funding to allow for administration of the expansion areas.

Primary Author

Leslie Marler, Management Analyst, Branch of Planning and Policy, Division of Refuges, National Wildlife Refuge System.

Dated: September 15, 2000.
Jamie Rappaport Clark,
Director, U.S. Fish and Wildlife Service.

[FR Doc. 00-24365 Filed 9-21-00; 8:45 am]

BILLING CODE 4310-55-P